DEPARTMENT OF LABOR

Employment and Training Administration

[TA-W-72,949]

Western Digital Technologies, Inc., Coporate Headquaters/Hard Drive Development Division, Lake Forest, CA; Notice of Negative Determination on Reconsideration

On October 7, 2010, the Department of Labor issued an Affirmative Determination Regarding Application for Reconsideration for the workers and former workers of Western Digital Technologies, Inc., Corporate Headquarters/Hard Drive Development Division, Lake Forest, California (Western Digital Technologies). The Department's Notice was published in the Federal Register on October 25, 2010 (75 FR 65517). The subject workers supply engineering (development) services in support of hard drive (also known as disk drive) manufacturing.

The initial negative determination was based on the Department's findings that that the subject firm did not increase imports of like or directly competitive services and did not shift to a foreign country the supply of these services. The investigation also revealed that the subject firm does not supply services that were directly used in the production of an article by a firm that employed a worker group eligible to apply for TAA. Because the services were supplied internally, no customer survey was conducted.

The request for reconsideration alleges that increased imports of articles that were produced directly using the services supplied by the subject workers contributed importantly to separations at the subject firm.

Information obtained during the reconsideration investigation confirmed that, during the relevant period, the workers' firm did not shift to a foreign country the supply of services like or directly competitive with the engineering services supplied by the workers nor has there has been an acquisition by the subject firm from a foreign country of like or directly competitive services; that the subject firm did not increase services like or directly competitive with the engineering services supplied by the workers; and the subject firm did not increase imports of articles that were produced directly using services supplied by the subject workers.

Conclusion

After reconsideration, I affirm the original notice of negative determination of eligibility to apply for worker adjustment assistance for workers and former workers of Western Digital Technologies, Inc., Corporate Headquarters/Hard Drive Development Division, Lake Forest, California.

Signed in Washington, DC, on this 4th day of February, 2011.
Del Min Amy Chen,
Certifying Officer, Office of Trade Adjustment Assistance.

[FR Doc. 2011-4095 Filed 2-23-11; 8:45 am]

BILLING CODE 4510-FN-P